DEPARTMENT OF LABOR

Employment and Training Administration

[TA-W-50,530]

PHB Tool and Die, Girard, Pennsylvania; Notice of Revised Determination on Reconsideration

By application of February 28, 2003, the company requested administrative reconsideration regarding the Department's Negative Determination Regarding Eligibility to Apply for Worker Adjustment Assistance, applicable to the workers of the subject firm.

The initial investigation resulted in a negative determination issued on February 13, 2003, based on the finding that criteria (a)(2)(A) (I.C.) and (a)(2)(B) (II.B) were not met. The denial notice was published in the Federal Register on March 10, 2003 (68 FR 11409).

To support the request for reconsideration, the company provided additional information that their sole customer, PHB Die Casting, Fairview, Pennsylvania had recently been certified for trade adjustment assistance (TA-W-42,331).

Upon examination of the data supplied by the applicant, it became apparent that PHB Tool and Die workers provided molds and dies used in the production of die castings at an affiliated certified facility (PHB Die Casting, Fairview, Pennsylvania).

Conclusion

After careful review of the additional facts obtained on reconsideration, I determine that increased imports of articles like or directly competitive with those produced at an affiliated TAA certified firm contributed importantly to the declines in the total or partial separation of workers at the subject firm. In accordance with the provisions of the Act, I make the following certification:

Workers of PHB Tool and Die, Girard, Pennsylvania, who became totally or partially separated from employment on or after January 8, 2002 through two years from the date of this certification, are eligible to apply for adjustment assistance under Section 223 of the Trade Act of 1974.

Signed in Washington, DC, this 17th day of April, 2003.
Elliott S. Kushner
Certifying Officer, Division of Trade Adjustment Assistance.

[FR Doc. 03-10744 Filed 4-30-03; 8:45 am]

BILLING CODE 4510-30-P